FEDERAL COMMUNICATIONS COMMISSION

Notice of Public Information Collection(s) Being Submitted to OMB for Review and Approval

March 18, 2005.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 25, 2005. If you anticipate that you will be submitting comments, but find it difficult to do so within the period of time allowed by this notice, you should advise the contact listed below as soon as possible.

ADDRESSES: Direct all comments to Cathy Williams, Federal Communications Commission, Room 1-C823, 445 12th Street, SW., Washington, DC 20554 or via the Internet to Cathy.Williams@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Cathy Williams at (202) 418-2918 or via the Internet at Cathy.Williams@fcc.gov.

SUPPLEMENTARY INFORMATION: OMB Control Number: 3060-0996.

Title: AM Auction, Section 307(b) Submissions.

Form Number: Not Applicable.

Type of Review: Revision of a currently approved collection.

Respondents: Business or other for-profit entities.

Number of Respondents: 450.

Estimated Time per Response: 0.5-3 hours.

Frequency of Response: On occasion reporting requirement.

Total Annual Burden: 1,100 hours.

Total Annual Cost: $132,500.

Privacy Impact Assessment: No impact(s).

Needs and Uses: Section 307(b) of the Communications Act, as amended, requires that the Commission effect a fair, efficient and equitable distribution of radio stations throughout the United States. In the context of competitive bidding application processing, section 307(b) is relevant when a mutually exclusive AM application group consists of applications to serve different communities, or when a non-mutually exclusive AM application proposes a community of license change. Such applicants must submit supplemental information addressing section 307(b) criteria. The data submitted will be used to determine the community having the greater need for an AM radio service.

Federal Communications Commission.
Marlene H. Dortch,
Secretary.

[FR Doc. 05-5842 Filed 3-23-05; 8:45 am]

BILLING CODE 6712-01-P